DEPARTMENT OF THE TREASURY

Comptroller of the Currency

[Docket ID OCC-2013-0014 ]

FEDERAL RESERVE SYSTEM

[Docket No. OP-1465 ]

FEDERAL DEPOSIT INSURANCE CORPORATION

BUREAU OF CONSUMER FINANCIAL PROTECTION

SECURITIES AND EXCHANGE COMMISSION

NATIONAL CREDIT UNION ADMINISTRATION

Announcement of Office of Management and Budget's Approval of Collection of Information Contained in “Final Interagency Policy Statement Establishing Joint Standards for Assessing the Diversity Policies and Practices of Entities Regulated by the Agencies.”

AGENCY: Office of the Comptroller of the Currency (OCC); Board of Governors of the Federal Reserve System (Board); Federal Deposit Insurance Corporation (FDIC); Bureau of Consumer Financial Protection (CFPB); Securities and Exchange Commission (SEC); and National Credit Union Administration (NCUA).

ACTION: Notice; Joint Announcement of Office of Management and Budget's (OMB) approval of a collection of information.

SUMMARY: The OCC, Board, FDIC, CFPB, SEC, and NCUA (each, an Agency and collectively, the Agencies) announce that OMB has approved the collection of information contained in the Final Interagency Policy Statement Establishing Joint Standards for Assessing the Diversity Policies and Practices of Entities Regulated by the Agencies (Policy Statement). Regulated entities may now begin to submit self-assessments of their diversity policies and practices to the OMWI Director of their primary federal financial regulator.

FOR FURTHER INFORMATION CONTACT:

OCC: Joyce Cofield, Executive Director, Office of Minority and Women Inclusion, at (202) 649-6460 or Karen McSweeney, Counsel, Law Department, at (202) 649-6295, or, for persons who are deaf or hard of hearing, TDD/TTY (202) 649-5597, Office of the Comptroller of the Currency, 400 7th Street SW., Washington, DC 20219.

BOARD: Sheila Clark, Director, Office of Diversity and Inclusion, at (202) 452-2883, Katherine Wheatley, Associate General Counsel, Legal Division, at (202) 452-3779, or Alye Foster, Senior Special Counsel, Legal Division, at (202) 452-5289.

FDIC: Melodee Brooks, Senior Deputy Director, Office of Minority and Women Inclusion, (703) 562-6090; or Robert Lee, Counsel, Legal Division, (703) 562-2020, Federal Deposit Insurance Corporation, 550 17th Street NW., Washington, DC 20429-0002.

CFPB: Stuart Ishimaru, Director, Office of Minority and Women Inclusion, at (202) 435-9012, or Stephen VanMeter, Deputy General Counsel, Legal Division at (202) 435-7319, Bureau of Consumer Financial Protection, 1700 G Street NW., Washington, DC 20552.

SEC: Pamela A. Gibbs, Director, Office of Minority and Women Inclusion, (202) 551-6046, or Audrey B. Little, Senior Counsel, Office of Minority and Women Inclusion, (202) 551-6086, Securities and Exchange Commission, 100 F Street NE., Washington, DC 20549.

NCUA: Monica Davy, Director, Office of Minority and Women Inclusion, (703) 518-1650, National Credit Union Administration, 1775 Duke Street, Alexandria, VA 22314.

SUPPLEMENTARY INFORMATION: Section 342 of the Dodd-Frank Wall Street Reform and Consumer Protection Act (Act) required the OCC, Board, FDIC, CFPB, SEC, and NCUA each to establish an Office of Minority and Women Inclusion (OMWI) to be responsible for all matters of the Agency relating to diversity in management, employment, and business activities. The Act also instructed each OMWI Director to develop standards for assessing the diversity policies and practices of entities regulated by the Agency. The Agencies worked together to develop joint standards (Joint Standards) and, on June 10, 2015, they jointly published in the Federal Register ¹ the “Final Interagency Policy Statement Establishing Joint Standards for Assessing the Diversity Policies and Practices of Entities Regulated by the Agencies.” ² The Policy Statement contains a “collection of information” within the meaning of the Paperwork Reduction Act of 1995 (PRA).

¹ 80 FR 33016.

² The National Credit Union Administration (NCUA) joined the Agencies in issuing the Policy Statement. However, the NCUA did not join the request for approval under the Paperwork Reduction Act (PRA) of the information collection contained in the Policy Statement as it submitted a separate request for PRA approval.

Although the Policy Statement was effective on June 10, 2015, the collection of information was not effective until OMB approved it. Accordingly, the Agencies stated in the Policy Statement that they would announce the effective date of the information collection following OMB's approval. The Agencies are pleased to announce that on February 18, 2016, OMB approved the collection of information for OCC, the Board, FDIC, CFPB, and SEC and approved NCUA's on March 11, 2016; thereby making these collections effective the date of OMB approval. The OMB-assigned control numbers for the collection of information are as follows: OCC—1557-0334; Board—7100-0368; FDIC—3064-0200; CFPB—3170-0060; SEC—3235-0740; and NCUA—3133-0193.

Dated: June 28, 2016.
Karen Solomon,
Deputy Chief Counsel, Office of the Comptroller of the Currency.

By order of the Board of Governors of the Federal Reserve System, June 28, 2016.
Robert deV. Frierson,
Secretary of the Board.

Federal Deposit Insurance Corporation.
Dated at Washington, DC, this 17th day of June, 2016.
Valerie J. Best,
Assistant Executive Secretary.

Dated: July 6, 2016.
Richard Cordray,
Director, Bureau of Consumer Financial Protection.

Dated: June 21, 2016.
Brent J. Fields,
Secretary, Securities and Exchange Commission.

By the National Credit Union Administration Board on June 22, 2016.
Gerard Poliquin,
Secretary of the Board.

[FR Doc. 2016-16459 Filed 7-12-16; 8:45 am]

BILLING CODE 4810-33-6210-01-6741-01-4810-AM-8010-01-7535-01-P